INTERNATIONAL TRADE COMMISSION

[Inv. No. 337-TA-543]

Certain Baseband Processor Chips and Chipsets, Transmitter and Receiver (Radio) Chips, Power Control Chips, and Products Containing Same, Including Cellular Telephone Handsets; Notice of Commission Decision To Extend the Target Date for Completion of the Investigation

AGENCY: U.S. International Trade Commission.

ACTION: Notice.

SUMMARY: Notice is hereby given that the U.S. International Trade Commission has determined to further extend the target date for completion of the above-captioned investigation by seventeen (17) days to May 25, 2007.

FOR FURTHER INFORMATION: Michael Liberman, Esq., Office of the General Counsel, U.S. International Trade Commission, 500 E Street, SW., Washington, DC 20436, telephone 202-205-3152. Copies of the ID and all other nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS) at http://edis.usitc.gov.

SUPPLEMENTARY INFORMATION: On June 21, 2005, the Commission instituted an investigation under section 337 of the Tariff Act of 1930, 19 U.S.C. 1337, based on a complaint filed by Broadcom Corporation of Irvine, California, alleging a violation of section 337 in the importation, sale for importation, and sale within the United States after importation of certain baseband processor chips and chipsets, transmitter and receiver (radio) chips, power control chips, and products containing same, including cellular telephone handsets by reason of infringement of certain claims of U.S. Patent Nos. 6,374,311; 6,714,983; 6,583,675; 5,682,379 (“the `379 patent”); and 6,359,872 (“the `872 patent”). 70 Fed. Reg. 35707 (June 21, 2005). The complainant named Qualcomm Incorporated of San Diego, California (“Qualcomm”) as the only respondent. The `379 patent and `872 patent have been terminated from this investigation.

On October 19, 2006, the presiding administrative law judge (“ALJ”) issued an Initial Determination (“ID”) on Violation of Section 337 and Recommended Determination (“RD”) on Remedy and Bond, finding a violation of section 337. The ID found a violation of section 337, and the RD recommended a limited exclusion order directed to baseband processor chips imported by Qualcomm. On December 8, 2006, the Commission issued a notice of its decision to review and upon review to modify in part the ALJ's final ID. The modification made by the Commission did not change the finding of violation. The Commission also requested the parties to the investigation, interested Government agencies, and any other interested persons to file written submissions on the issues of remedy, the public interest, and bonding.

On January 25, 2007, respondent Qualcomm moved, inter alia, for oral argument and hearing on the issues of remedy and the public interest. On March 21-22, 2007, the Commission held a public hearing on the issues of remedy and the public interest. The Commission has determined to extend the target date for completion of this investigation by seventeen (17) days to May 25, 2007.

The authority for the Commission's determination is contained in 19 U.S.C. 1337, and in section 210.51(h) of the Commission's Rules of Practice and Procedure (19 CFR 210.51)).

By order of the Commission.
Issued: April 23, 2007.
Marilyn R. Abbott,
Secretary to the Commission.

[FR Doc. E7-8051 Filed 4-26-07; 8:45 am]

BILLING CODE 7020-02-P